TENNESSEE VALLEY AUTHORITY

Union County Multipurpose Reservoir/Other Water Supply Alternatives Project

AGENCY: Tennessee Valley Authority.

ACTION: Issuance of record of decision.

SUMMARY: This notice is provided in accordance with the Council on Environmental Quality's regulations (40 CFR parts 1500 to 1508) and TVA's procedures implementing the National Environmental Policy Act. The Union County, Mississippi, Board of Supervisors and the City of New Albany, Mississippi, have decided to adopt Alternative 2: Multipurpose Reservoir, as described in the Final Environmental Impact Statement (EIS) on the Union County Multipurpose Reservoir/Other Water Supply Alternatives Project. This alternative would result in the construction and operation of a multipurpose reservoir on Cane Creek in Union County, Mississippi. Implementing this alternative requires TVA to abandon a portion of an existing electrical transmission line right-of-way and relocate the existing electrical transmission line from that right-of-way. TVA has decided to relocate the line to the Alternate 1 route. In the Final EIS, Union County and the City of New Albany identified Alternative 2 as their preferred water supply alternative, and TVA identified Alternate 1 as its preferred transmission line route. The Final EIS was made available to the public on June 30, 2000. A Notice of Availability of the Final EIS was published in the Federal Register on July 7, 2000.

FOR FURTHER INFORMATION CONTACT: Charles P. Nicholson, NEPA Specialist, Environmental Management, Tennessee Valley Authority, 400 West Summit Hill Drive, WT 8C, Knoxville, Tennessee 37902-1499; telephone (423) 632-3582 or e-mail cpnicholson@tva.gov.

SUPPLEMENTARY INFORMATION: In July 1998, TVA was requested by the City of New Albany, Union County, and others to assist in assessing the environmental consequences of alternatives for meeting the future water needs of New Albany and Union County, Mississippi. TVA's assistance was requested because of its expertise in water supply issues, its experience in conducting environmental reviews, and because one of the proposed water supply solutions would require TVA to relocate a portion of an electrical transmission line. TVA responded to this request by preparing a Draft and Final EIS. TVA's action in this project is limited to the relocation of the transmission line. The U.S. Army Corps of Engineers would have actions under at least two of the alternatives.

TVA provided public notice of its intent to prepare an Environmental Impact Statement on water supply alternatives for Union County on December 2, 1998. A public meeting on the proposal was held on December 10, 1998. TVA released its Draft EIS on April 14, 2000, and held a public meeting to receive comments on the document on May 1, 2000. Comments were received from two federal and three state agencies, one university institute, four representatives of local governments or development corporations, and thirteen individuals. After considering all comments, TVA revised the EIS appropriately. The Final EIS was distributed to commenting agencies and the public on June 30, 2000.

Alternatives Considered

The Final EIS evaluated a No Action Alternative and three Action Alternatives for meeting the future water supply needs of the Union County area. The No Action Alternative was based on a normal growth scenario, i.e., that the local population and their water supply needs will continue to grow at the moderate rate experienced during the 1990s. The Action Alternatives are based on higher growth rate projections, which would result in an additional 0.74 million gallons per day (mgd) of water demand in 2020 and an additional 1.67 mgd in 2050. The Final EIS also evaluated two alternate routes for the relocation of a transmission line that would occur as part of one of the action alternatives.

Under Alternative 1: No Action, Union County and the City of New Albany would continue making incremental improvements to their existing water supply systems Existing local water supply systems rely on groundwater pumped from several wells.

Under Alternative 2: Multipurpose Reservoir, Union County and the City of New Albany would construct and operate a reservoir on Cane Creek to supply the high growth water demands and provide other benefits such as recreation and flood control. The reservoir would be impounded by a 2,000-foot long earthen dam located northeast of New Albany about 1.75 miles upstream of the junction of Cane Creek and the Little Tallahatchie River. At normal pool level, the reservoir would impound about 960 acres. Associated water supply system components include a water treatment plant immediately downstream of the reservoir and a pipeline connection to the local water distribution system.

As part of this alternative, TVA would relocate a 5.5 mile segment of the Albany-Ripley #2 161-kV transmission line from the reservoir basin to one of two alternate routes north and east of the reservoir. The Alternate 1 route is about 6.4 miles long, and the Alternate 2 route is about 7.5 miles long. About 3.4 miles of both routes share a common corridor. About 1.9 miles of the Alternate 2 route are parallel to an existing 500-kV transmission line; along this segment, the existing right-of-way would be widened from 175 feet to 247.5 feet to accommodate the new line. All of the Alternate 1 route and 5.6 miles of the Alternate 2 route would be built on new 100-foot wide right-of-way. The line would use a combination of single and double pole metal structures with horizontal cross arms.

Under Alternative 3: Pipeline from Existing Water Supply, a pipeline would be constructed, most likely to the Northeast Mississippi Regional Water Supply District at Tupelo. This pipeline would be about 27 miles long and parallel U.S. Highway 78 West. It would likely be built with 24-inch diameter iron pipe on a 20- to 50-foot wide right-of-way, and require at least one pressure booster station. The Northeast Mississippi district withdraws its water from a diversion of the Tennessee-Tombigbee Waterway, and currently has sufficient capacity to supply Union County/New Albany. The Northeast Mississippi district would eventually have to expand its treatment plant to meet the future needs of Union County/New Albany.

Under Alternative 4: Additional Groundwater Sources, Union County and the City of New Albany would rely on groundwater to meet future demand, and construct additional wells and pipeline connections. The locations of additional wells are unknown at this time; some would likely be in the vicinity of existing wells and others would be likely be near new large water supply users such as industries. If additional well fields were required, they would likely be south and west and New Albany.

Decision

Union County and the City of New Albany have chosen Alternative 2: Multipurpose Reservoir because it would ensure an adequate water supply and provide the greatest range of supplemental benefits, including recreation and limited flood control. TVA has chosen the Alternate 1 route for the transmission line that would be relocated from the reservoir basin area. In the Final EIS, Union County and the City of New Albany identified Alternative 2 as their preferred water supply alternative, and TVA identified Alternate 1 as its preferred transmission line route. TVA will take this action when and if Union County and the City of New Albany obtain funding to complete the reservoir project, obtain necessary permits, and make appropriate financial arrangements with TVA to move the line. In addition, the TVA Board of Directors would have to authorize the abandonment of the existing transmission line right-of-way.

Environmentally Preferred Alternative

Section 2.6 of the Final EIS ranked the alternatives by their potential environmental impacts. Alternative 1: No Action would result in the lowest level of environmental impacts. This alternative would not, however, allow Union County and the City of New Albany to meet their projected water supply needs. Of the two action alternatives that would meet the projected water supply needs without greatly reducing groundwater levels, Alternative 3: Pipeline from Existing Supply would have fewer environmental impacts that Alternative 2: Multipurpose Reservoir.

Of the alternative actions available to TVA, namely the two alternate routes for the transmission line relocation, the Alternate 1 route is environmentally preferable. It would affect fewer landowners, cross fewer streams, and result is less forest clearing than the Alternate 2 route. The Alternate 2 route, however, would result in less conversion of forest wetlands to scrub-shrub wetlands.

Public Comments on the Final EIS

Comments on the Final EIS were received from the U.S. Environmental Protection Agency, the U.S. Department of Interior, and the Mississippi State Department of Health. Most of the comments addressed issues related to the operation of the reservoir proposed under Alternative 2. At the time the Final EIS was published, detailed information on shoreline ownership and management, water levels, downstream flow, water withdrawals, and other operational characteristics of the reservoir was not available from Union County and the City of New Albany. TVA anticipates these issues will be addressed during the permitting process.

Environmental Consequences and Commitments

The construction and operation of the multipurpose reservoir under Alternative 2 would result in the inundation of 960 acres of land along Cane Creek and changes to stream ecology resulting from impoundment. With the implementation of appropriate mitigation measures, many of which will be developed during the permitting process, the adverse environmental impacts of Alternative 2 are expected to be insignificant.

TVA has adopted the following mitigation measures pertaining to its construction and operation of the transmission line:

• Prior to initiation of construction activities, TVA will conduct an archaeological survey of the right-of-way. Adverse effects to archaeological resources potentially eligible for listing on the National Register of Historic Places would likely be avoided by slight changes in the location of the line or individual structures. If this avoidance is impracticable, adverse effects will be resolved pursuant to regulations (36 CFR 800) implementing Section 106 of the National Historic Preservation Act.

• All construction and maintenance activities will utilize applicable Best Management Practices. Construction activities will also adhere to the Right-of-Way Clearing Specifications and Environmental Quality Protection Specifications for Transmission Line Construction listed in Appendix B-1 of the Final EIS. These list requirements for protecting sensitive areas, water and air quality, reducing noise, and disposing of wastes.

• Wetlands will be avoided to the extent practicable. Identified wetlands, streams, and drainage ways will not be modified so as to alter their natural hydrological patterns during transmission line clearing, construction, and maintenance. Hydric soils will not be disturbed or modified in any way that would alter their hydrological properties.

• Initial right-of-way clearing within forested wetlands will be accomplished using accepted silvicultural practices for timber/vegetation harvesting within wetlands.

• Within streams, riparian zones, and wetlands, trees will be cut close to ground level and stumps will not be uprooted or removed.

• Transmission line maintenance using mechanical means in areas surrounding or adjacent to identified wetlands will only be conducted during seasonal dry periods, usually late summer or early fall, and will be accomplished without the use of heavy equipment.

• Any herbicide applications would be by licensed personnel and use EPA-registered herbicides.

Dated: August 2, 2001.
Kathryn J. Jackson,
Executive Vice President, River System Operations & Environment.

[FR Doc. 01-19947 Filed 8-8-01; 8:45 am]

BILLING CODE 8120-08-P